FEDERAL COMMUNICATIONS COMMISSION

Notice of Public Information Collection(s) Being Submitted for Review to the Office of Management and Budget

January 13, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 3, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0512.

Title: ARMIS Annual Summary Report.

Report No.: FCC Report 43-01.

Type of Review: Revision of a currently approved collection.

Respondents: Business or other for-profit.

Number of Respondents: 126.

Estimated Time per Response: 88 hours.

Frequency of Response: Annual reporting requirement.

Total Annual Burden: 11,088 hours.

Total Annual Cost: N/A.

Privacy Act Impact Assessment: N/A.

Needs and Uses: The Commission is submitting this information collection to OMB as a revision in order to obtain the full three-year clearance from them. The Commission has revised this information collection because five mid-sized carriers reached the revenue threshold, two mid-sized carriers were eliminated because they fell below the revenue threshold and one carrier was sold. The Commission has also deleted one row in the ARMIS Annual Summary Report (FCC Report 43-01). FCC Report 43-01 facilitates the annual collection of the results of accounting, rate base, and cost allocation requirements prescribed in Parts 32, 36, 64, 65 and 69 of the Commission's rules. ARMIS was implemented to facilitate the timely and efficient analysis of revenue requirements, rates of return and price caps; to provide an improved basis for audits and other oversight functions; and to enhance the Commission's ability to quantify the effects of alternative policy. The FCC Report 43-01 contains financial and operating data and is used to monitor the incumbent local exchange carriers and to perform routine analyses of cost and revenues.

OMB Control No.: 3060-0513.

Title: ARMIS Joint Cost Report.

Report No.: FCC Report 43-03.

Type of Review: Revision of a currently approved collection.

Respondents: Business or other for-profit.

Number of Respondents: 82.

Estimated Time per Response: 50 hours.

Frequency of Response: Annual reporting requirement.

Total Annual Burden: 4,100 hours.

Total Annual Cost: N/A.

Privacy Act Impact Assessment: N/A.

Needs and Uses: The Commission is submitting this information collection to OMB as a revision in order to obtain the full three-year clearance from them. The Commission has revised this information collection due to the addition of two rows for Account 6623. The Commission uses an indexed revenue threshold to determine which carriers are required to file the ARMIS reports. The revenue threshold is currently $125 million. In this submission, the Commission also revised the number of carriers filing this ARMIS report from 83 to 82 to reflect one carrier that was sold and will no longer file this report. The ARMIS Joint Cost Report, FCC Report 04-03, contains financial and operating data. The Report details the incumbent local exchange carriers (ILECs) regulated and nonregulated cost and revenue allocations by study area pursuant to Part 64 of the Commission's rules.

OMB Control No.: 3060-0978.

Title: Section 20.18, 911 Service, Fourth Report and Order.

Form No.: N/A.

Type of Review: Extension of a currently approved collection.

Respondents: Business or other for-profit.

Number of Respondents: 4,000 respondents; 32,000 responses.

Estimated Time per Response: 2 hours.

Frequency of Response: Quarterly reporting requirement and third party disclosure requirement.

Total Annual Burden: 32,000 hours.

Total Annual Cost: N/A.

Privacy Act Impact Assessment: N/A.

Needs and Uses: The Commission is seeking an extension (no change in reporting requirements) for this information collection in order to obtain the full three-year clearance from OMB.

The Commission's Fourth Report and Order took steps to ensure persons with hearing and speech disabilities using text telephone (TTY) devices will be able to make 911 emergency calls over digital wireless systems. The Fourth Report and Order established June 30, 2002, as the deadline by which digital wireless service providers must be capable of transmitting 911 calls made using TTY devices. In order to monitor the development and implementation of this capability within carrier networks, the Commission imposes quarterly reporting requirements on carriers which may be fulfilled by reporting through an industry forum that has been actively involved in resolving TTY/digital compatibility problems. The Commission will use this information submitted in the quarterly TTY reports to keep track of the carriers' progress in complying with E911 TTY requirements and also to monitor the progress technology is making towards compatibility with TTY devices.

Federal Communications Commission.
Marlene H. Dortch,
Secretary.

[FR Doc. 06-751 Filed 1-31-06; 8:45 am]

BILLING CODE 6712-01-P